FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 22, 2005.

A. Federal Reserve Bank of Philadelphia (Michael E. Collins, Senior Vice President) 100 North 6th Street, Philadelphia, Pennsylvania 19105-1521:

1.Marsh & McLennan Cos., Inc., New York, New York; Putnam Investments Trust, Putnam, LLC, Putnam Investment Management, LLC, The Putnam Advisory Co., LLC, Putnam Fiduciary Trust Co., TH Lee, Putnam Capital Management, LLC, and PanAgora Asset Management, Inc., all of Boston, Massachusetts; Putnam Investments Limited, London, United Kingdom; to acquire voting shares of Commerce Bancorp, Inc., Cherry Hill, New Jersey, and thereby indirectly acquire voting shares of Commerce Bank, NA, Cherry Hill, New Jersey; Commerce Bank/North, Ramsey, New Jersey; Commerce Bank/Delaware, NA, Wilmington, Delaware; and Commerce Bank/Pennsylvania, NA, Philadelphia, Pennsylvania.

B. Federal Reserve Bank of Chicago (Patrick M. Wilder, Assistant Vice President) 230 South LaSalle Street, Chicago, Illinois 60690-1414:

1. Ben D. Grimstad, Decorah, Iowa, and Joseph L. Grimstad, Decorah, Iowa, individually, to acquire voting shares of Security Agency, Inc., Decorah, Iowa, and thereby indirectly acquire voting shares of Decorah Bank & Trust Company, Decorah, Iowa.

C. Federal Reserve Bank of Dallas (W. Arthur Tribble, Vice President) 2200 North Pearl Street, Dallas, Texas 75201-2272:

1. Reatha Coleen Beck, Austin, Texas; to acquire additional voting shares of Union State Bancshares, Inc., Killeen, Texas, and thereby indirectly acquire additional voting shares of Union State Holding Company, Wilmington, Delaware, and Union State Bank, Florence, Texas.

Board of Governors of the Federal Reserve System, August 2, 2005.
Robert deV. Frierson,
Deputy Secretary of the Board.

[FR Doc. 05-15704 Filed 8-8-05; 8:45 am]

BILLING CODE 6210-01-S